DEPARTMENT OF ENERGY

Federal Energy Regulatory Commission

[Project No. 9951-057]

STS Hydropower, LLC; Charter Township of Van Buren, Michigan; Notice of Intent To Prepare an Environmental Assessment

On April 29, 2025, STS Hydropower, LLC and the Charter Township of Van Buren, Michigan filed a relicense application for the 1.65-megawatt French Landing Hydroelectric Project No. 9951. The project is located on the Huron River in Wayne County, Michigan.

In accordance with the Commission's regulations, on December 3, 2025, Commission staff issued a notice that the project was ready for environmental analysis (REA notice). Based on the information in the record, including comments filed on the REA notice, staff does not anticipate that licensing the project would constitute a major federal action significantly affecting the quality of the human environment. Therefore, staff intends to prepare an environmental assessment (EA) on the application to relicense the project.¹

¹ For tracking purposes under the National Environmental Policy Act, the unique identification number for documents relating to this environmental review is EAXX-019-20-000-1767605540.

The EA will be issued and circulated for review by all interested parties. All comments filed on the EA will be analyzed by staff and considered in the Commission's final licensing decision.

For public inquiries and assistance with making filings such as interventions, comments, or requests for rehearing, contact the Office of Public Participation at (202) 502-6595 or OPP@ferc.gov.

The application will be processed according to the following schedule. The EA will be issued for a 30-day comment period. Revisions to the schedule may be made as appropriate.

Milestone | Target date
Commission issues EA | December 8, 2026.

Any questions regarding this notice may be directed to Rebecca Brodeur by telephone at (202) 502-8392 or by email at rebecca.brodeur@ferc.gov.

(Authority: 18 CFR 2.1)

Dated: February 11, 2026.
Debbie-Anne A. Reese,
Secretary.

[FR Doc. 2026-03114 Filed 2-17-26; 8:45 am]

BILLING CODE 6717-01-P